NUCLEAR REGULATORY COMMISSION

[Docket Nos. 50-0327 and 50-0328; NRC-2014-0045]

Tennessee Valley Authority, Browns Ferry Nuclear Plant Units 1, 2 and 3, Sequoyah Nuclear Plant, Units 1 and 2, Watts Bar Nuclear Plant, Units 1 and 2

AGENCY: Nuclear Regulatory Commission.

ACTION: License amendment application; withdrawal by applicant.

SUMMARY: The U.S. Nuclear Regulatory Commission (NRC) has granted the request of Tennessee Valley Authority (the licensee) to withdraw its application dated July 6, 2018, for proposed amendments to Renewed Facility Operating License Nos. DPR-33, DPR-52, DPR-68, DPR-77 and DPR-79, and Facility Operating License Nos. NPF-90 and NPF-96. The proposed amendments would have revised the implementation date of Tennessee Valley Authority's emergency action level schemes based on the Nuclear Energy Institute (NEI) document NEI 99-01, Revision 6, “Development of Emergency Action Levels for Non-Passive Reactors,” from July 3, 2018, to November 3, 2018.

DATES: August 24, 2018.

ADDRESSES: Please refer to Docket ID NRC-2014-0045 when contacting the NRC about the availability of information regarding this document. You may obtain publicly-available information related to this document using any of the following methods:

• Federal Rulemaking Website: Go to http://www.regulations.gov and search for Docket ID NRC-2014-0045. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrew Hon, Office of Nuclear Reactor Regulation, U.S. Nuclear Regulatory Commission, Washington DC 20555-0001; telephone: 301-415-8480, email: Andrew.Hon@nrc.gov.

SUPPLEMENTARY INFORMATION: The NRC has granted the request of Tennessee Valley Authority (the licensee) to withdraw its June 15, 2018, application (ADAMS Accession No. ML18169A222) for proposed amendments to Renewed Facility Operating License Nos. DPR-33, DPR-52, DPR-68, Browns Ferry Nuclear Plant, located in Limestone County, Alabama, DPR-77 and DPR-79 Sequoyah Nuclear Plant, located in Hamilton County, Tennessee, and Facility Operating License Nos. NPF-90 and NPF-96, Watts Bar Nuclear Plant, located in Rhee County, Tennessee.

The proposed amendments would have revised the implementation date of Tennessee Valley Authority's emergency action level schemes based on the Nuclear Energy Institute document NEI 99-01, Revision 6, “Development of Emergency Action Levels for Non-Passive Reactors,” from July 3, 2018, to November 3, 2018.

This proposed amendment request was noticed in the Federal Register (83 FR 30465) dated June 28, 2018, which was subsequently withdrawn by the licensee's letter dated July 6, 2018 (ADAMS Accession No. ML18187A401).

Dated at Rockville, Maryland, this 21st day of August 2018.
For the Nuclear Regulatory Commission.
Andrew Hon,
Project Manager, Plant Licensing Branch II-2, Division of Operating Reactor Licensing, Office of Nuclear Reactor Regulation.

[FR Doc. 2018-18352 Filed 8-23-18; 8:45 am]

BILLING CODE 7590-01-P